DEPARTMENT OF TRANSPORTATION

Federal Aviation Administration

Notice of Intent To Rule on Application 01-04-I-00-PLB To Impose the Revenue from a Passenger Facility Charge (PFC) at Clinton County Airport, Plattsburgh, New York

AGENCY: Federal Aviation Administration (FAA), DOT.

ACTION: Notice of intent to rule on application.

SUMMARY: The FAA proposes to rule and invites public comment on the application to impose the revenue from a PFC at Clinton County Airport under the provisions of the Aviation Safety and Capacity Expansion Act of 1990 (Title IX of the Omnibus Budget Reconciliation Act of 1990) (Pub. L. 101-508) and part 158 of the Federal Aviation Regulations (14 CFR part 158).

DATES: Comments must be received on or before March 15, 2001.

ADDRESSES: Comments on this application may be mailed or delivered in triplicate to the FAA at the following address: Federal Aviation Administration, New York Airports District Office, 600 Old Country Road, Suite 446, Garden City, New York 11530.

In addition, one copy of any comments submitted to the FAA must be mailed or delivered to Mr. Ralph Hensel, Airport Manager at the following address: Clinton County Airport, 11 Airport Road, Suite 101, Plattsburgh, New York 12901.

Air carriers and foreign air carriers may submit copies of written comments previously provided to the County of Clinton under § 158.23 of part 158.

FOR FURTHER INFORMATION CONTACT: Robert Levine, Airport Engineer, New York Airports District Office, 600 Old Country Road, Garden City, New York 11530, Telephone: (516) 227-3807. The application may be reviewed in person at this same location.

SUPPLEMENTARY INFORMATION: The FAA proposes to rule and invites public comment on the application to impose the revenue from a PFC at Clinton County Airport under the provisions of the Aviation Safety and Capacity Expansion Act of 1990 (Title IX of the Omnibus Budget Reconciliation Act of 1990) (Pub. L. 101-508) and part 158 of the Federal Aviation Regulations (14 CFR part 158).

On January 30, 2001, the FAA determined that the application to impose the revenue from a PFC submitted by County of Clinton was substantially complete within the requirements of section 158.25 of part 158. The FAA will approve or disapprove the application, in whole or in part, no later than May 18, 2001.

The following is a brief overview of the application.

PFC Application No.: PFC 01-04-I-00-PLB.

Level of the proposed PFC: $3.00.

Proposed Charge Effective Date: May 1, 2001.

Proposed Charge Expiration Date: December 1, 2002.

Total Estimated PFC Revenue: $46,275.

Brief description of proposed project(s):

—On Airport Obstruction Removal (Phase I & II)

—Transient Apron Rehabilitation

Class or classes of air carriers which the public agency has requested not be required to collect PFCs: Non-Scheduled/On Demand Operators filing FAA Form 1800-31.

Any person may inspect the application in person at the FAA office listed above under FOR FURTHER INFORMATION CONTACT and at the FAA regional airports office located at: Federal Aviation Administration, Eastern Region, Airports Division, AEA-610, 1 Aviation Plaza, Jamaica, New York 11434-4809.

In addition, any person may, upon request, inspect the application, notice and other documents germane to the application in person at the County of Clinton.

Issued in Garden City, New York on January 30, 2001.
Philip Brito,
Manager, New York Airports District Office, Eastern Region.

[FR Doc. 01-3662 Filed 2-12-01; 8:45 am]

BILLING CODE 4910-13-M